DEPARTMENT OF HOMELAND SECURITY

[Docket No. DHS-2008-0049]

Science and Technology Directorate; Submission for Review; Information Collection Request for the DHS S&T Biodefense Knowledge Center Expert Database; Correction

AGENCY: Science and Technology Directorate, DHS.

ACTION: 30-day Notice and request for comment; Correction.

SUMMARY: The Department of Homeland Security (DHS) published a document in the Federal Register on May 22, 2008, concerning a 30-day notice and request for comment on the Biodefense Knowledge Center Expert Database. The document contained the incorrect name of the Biodefense Knowledge Center, incorrectly written as Bio-Knowledge Center, as well as incorrect information in the summary, supplementary information, and overview of the information collection portion of the notice.

FOR FURTHER INFORMATION CONTACT: Dave Shepherd, 202-254-5897.

Corrections

In the Federal Register of May 22, 2008, in FR Doc. E8-11454, on page 29773, in the second column, correct the SUMMARY caption to read: The Department of Homeland Security (DHS) invites the general public to comment on a new data collection form for the Biodefense Knowledge Center Expert Database: Subject Matter Expert (SME) Registration Form (DHS Form 10043). The Biodefense Knowledge Center Database will collect SME information in order to understand who can provide scientific expertise for peer review of classified life science programs. In addition, the directory will make it easier to identify scientific specialty areas for which there is a shortage of SMEs with appropriate security clearances. SME contact information, scientific expertise, and level of education will be collected electronically through a web portal currently being developed by DHS S&T. The SME information will be shared with U.S. Government program managers who have a legitimate need to identify life sciences SMEs. Cleared SMEs are necessary to accomplish scientific reviews and attend topical meetings. This notice and request for comments is required by the Paperwork Reduction Act of 1995 (Pub. Law 104-13, 44 U.S.C. chapter 35). Previously, a 60-day notice was published in the Federal Register on March 14, 2008.

In the Federal Register of May 22, 2008, in FR Doc. E8-11454, on page 29773, in the third column, correct the first sentence of the SUPPLEMENTARY INFORMATION caption to read: The National Counterproliferation Center has identified the need for a comprehensive and readily available list of life science SMEs who have security clearance status.

In the Federal Register of May 22, 2008, in FR Doc. E8-11454, on page 29774, in the first column, correct the last sentence of the third bullet under the “Overview of this Information Collection” caption to read: The SME information will be shared with U.S. Government program managers who have a legitimate need to identify life science SMEs.

Dated: June 16, 2008.
Kenneth D. Rogers,
Chief Information Officer, Science and Technology Directorate.

[FR Doc. E8-14643 Filed 6-26-08; 8:45 am]

BILLING CODE 4410-10-P